DEPARTMENT OF THE INTERIOR

Bureau of Land Management

[UT-060-1610-016J]

Notice of Availability of Moab Field Office Proposed Resource Management Plan and Final Environmental Impact Statement

AGENCY: Bureau of Land Management, Interior.

ACTION: Notice of Availability.

SUMMARY: In accordance with the National Environmental Policy Act of 1969 and the Federal Land Policy and Management Act of 1976, the Bureau of Land Management (BLM) has prepared a Proposed Resource Management Plan/Final Environmental Impact Statement (PRMP/FEIS) for the Moab Field Office.

DATES: The BLM planning regulations (43 CFR 1610.5-2) state that any person who meets the conditions as described in the regulations may protest the BLM's PRMP/FEIS. A person who meets the conditions and files a protest must file the protest within 30 days of the date that the Environmental Protection Agency publishes this notice in the Federal Register.

ADDRESSES: Copies of the Moab Field Office PRMP/FEIS were sent to affected Federal, state, and local government agencies and to interested parties. Copies of the PRMP/FEIS are available for public inspection at:

Moab Field Office, 82 East Dogwood, Moab, UT, 84532.

Utah State Office, 440 West 200 South, Salt Lake City, UT 84145.

Interested persons may also review the PRMP/FEIS on the Internet at http://www.blm.gov/ut/st/en/fo/moab/planning.html. All protests must be in writing and mailed to the following addresses:

Regular Mail: BLM Director (210), Attention: Brenda Hudgens-Williams, P.O. Box 66538, Washington, DC 20035.

Overnight Mail: BLM Director (210), Attention: Brenda Hudgens-Williams, 1620 L Street, NW., Suite 1075, Washington, DC 20036.

FOR FURTHER INFORMATION, CONTACT: Brent Northrup, Moab Field Office, 82 East Dogwood, Moab, UT, 84532; phone: (435)259-2100; or e-mail at: Brent_Northrup@blm.gov.

SUPPLEMENTARY INFORMATION: The Moab RMP planning area is located in southeastern Utah. The BLM administers approximately 1.8 million acres of surface estate and 1.9 million acres of Federal mineral estate within the planning area.

The Moab RMP will provide future broad-scale management direction for land use allocations and allowable uses on public lands within the planning area. Implementation of the decisions of the PRMP/FEIS would apply only to BLM-administered public lands and Federal mineral estate. In the Moab Field Office Draft RMP/EIS (DRMP/DEIS), which was released for a 90-day public review and comment period in August 2007, four alternatives were analyzed, including a No Action alternative. These alternatives were developed through issue identification during the scoping process. Such issues included: travel management, recreation, special designations, minerals, non-WSA lands with wilderness characteristics.

The PRMP/FEIS would designate five new Areas of Critical Environmental Concern (ACECs), and the continuation of no existing ACECs, totaling 63,232 acres. Resource use limitations that apply to the proposed ACECs include a range of different prescriptions as described in Table 1 below.

Table 1—Evaluation of Areas of Critical Environmental Concern
Area name | Values of concern | Resource use limitations | Acres
Behind the Rocks | Threatened, sensitive and endangered plants, cultural, scenic | 1, 2, 3, 4, 5, 6, 7, 8 | 5,201
Cottonwood Diamond Watershed | Natural systems | 4, 5 (outside WSA), 6 (outside WSA), 9, 10, 11 (inside WSA), 12, 13, 14 (inside WSA) | 35,830
Highway 279 Shafer Basin/Long Canyon | Cultural, scenic, natural systems, wildlife | 3, 5, 6, 7, 27 (except Highway 279 and Long Canyon, 1), 28 | 13,500
Mill Creek Canyon | Cultural, scenic, natural systems | 1, 4, 5, 6, 7, 9, 15, 16, 17, 18, 19, 20, 21, 22 | 3,721
Ten Mile Wash | Cultural, natural systems, natural hazards, wildlife | 5, 6, 7, 8, 9 (downstream from Dripping Springs), 12, 23 (at Dripping Springs), 24, 25 (at Green River), 26 | 4,980
1. VRM Class I.
2. No Vegetation treatments.
3. Vehicle-based camping, campfires only in campgrounds.
4. No new motorized or mechanized routes.
5. Motorized/ mechanized use limited to designated routes.
6. No surface occupancy for oil and gas leasing.
7. Preclude surface use.
8. No collection of woodland products.
9. Not available for livestock grazing.
10. Closed to vehicle use at the end of Class-B road system.
11. Closed to mechanized and motorized travel.
12. No competitive events.
13. Suspend commercial permits.
14. Closed to oil and gas leasing.
15. No vehicle-based camping.
16. No campfires in riparian areas.
17. No motorized competitive events.
18. Recreational events confined to designated roads.
19. Recreation facility limited to day-use only.
20. No recreational mining.
21. No fuel wood harvesting permits.
22. Campfire wood gathering in upland areas only.
23. Camping in designated sites only.
24. Establish speed limits.
25. Restrict vehicle access.
26. Permits required for groups larger than 25 vehicles or if monitoring indicates long-term damage.
27. VRM Class I.
28. Permitted activities would be confined to main roads within crucial bighorn lambing habitat from April 1 through June 15. This restriction would not apply to filming if the filming meets the minimum impact criteria.

Comments on the Moab Field Office DRMP/DEIS received from the public and internal BLM review were considered and incorporated as appropriate into the PRMP/FEIS. Public comments resulted in the addition of clarifying text, but did not significantly change proposed land use plan decisions.

Instructions for filing a protest with the Director of the BLM regarding the PRMP/FEIS may be found in the Dear Reader Letter of the PRMP/FEIS and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov. All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Selma Sierra,
Utah State Director.

Authority: 40 CFR 1506.6, 43 CFR 1610.2, 43 CFR 1610.5-1.

[FR Doc. E8-17554 Filed 7-31-08; 8:45 am]

BILLING CODE 4310-DQ-P